CONSUMER PRODUCT SAFETY COMMISSION

Sunshine Act Meeting

TIME AND DATE: Wednesday, November 29, 2023-10:00 a.m.

PLACE: Room 420, Bethesda Towers, 4330 East West Highway, Bethesda, MD.

STATUS: Commission Meeting—Open to the Public.

MATTERS TO BE CONSIDERED:

Decisional Matter

Notice of Proposed Rulemaking: Infant Support Cushions. A live webcast of the meeting can be viewed at the following link: https://cpsc.webex.com/weblink/register/r6d47fc122f8e9168bd8587d051fc5ec8.

CONTACT PERSON FOR MORE INFORMATION: Alberta E. Mills, Office of the Secretary, U.S. Consumer Product Safety Commission, 4330 East West Highway, Bethesda, MD 20814, 301-504-7479 (Office) or 240-863-8938 (Cell).

Dated: November 20, 2023.
Elina Lingappa,
Paralegal Specialist.

[FR Doc. 2023-26120 Filed 11-22-23; 11:15 am]

BILLING CODE 6355-01-P